DEPARTMENT OF DEFENSE

Office of the Secretary

Federal Advisory Committee; Defense Science Board; Charter Renewal

AGENCY: Department of Defense (DoD).

ACTION: Renewal of Federal advisory committee.

SUMMARY: Under the provisions of the Federal Advisory Committee Act of 1972, (5 U.S.C. Appendix), the Government in the Sunshine Act of 1976 (5 U.S.C. 552b), and 41 CFR 102-3.50, the Department of Defense gives notice that it is renewing the charter for the Defense Science Board (hereafter referred to as the Board).

FOR FURTHER INFORMATION CONTACT: Jim Freeman, Deputy Advisory Committee Management Officer for the Department of Defense, 703-601-6128.

SUPPLEMENTARY INFORMATION: The Board is a discretionary Federal advisory committee that shall provide independent advice and recommendations on matters relating to the Department of Defense's scientific and technical enterprise.

The Board shall provide the Secretary of Defense; the Deputy Secretary of Defense; the Under Secretary of Defense for Acquisition, Technology and Logistics; the Chairman of the Joint Chiefs of Staff and; as requested, other Office of the Secretary of Defense (OSD) Principal Staff Assistants, the Secretaries of the Military Departments, and the Commanders of the Combatant Commands, independent advice and recommendations on scientific, technical, manufacturing, acquisition process, and other matters of special interest to the Department of Defense.

The Board is not established to advise on individual DoD procurements, but instead shall be concerned with the pressing and complex technology problems facing the Department of Defense in such areas as research, engineering, and manufacturing, and will ensure the identification of new technologies and new applications of technology in those areas to strengthen national security.

No matter shall be assigned to the Board for its consideration that would require any Board Member to participate personally and substantially in the conduct of any specific procurement or place him or her in the position of acting as a contracting or procurement official.

The Under Secretary of Defense for Acquisition, Technology and Logistics shall be authorized to act upon the advice and recommendations of the Board.

The Board shall be composed of not more than 45 members and not more than 12 Senior Fellow members, who are eminent authorities in the fields of scientific, technical, manufacturing, acquisition process, and other matters of special interest to the Department of Defense.

The Board members shall be appointed by the Secretary of Defense, and their appointments will be renewed on an annual basis. Those members, who are not full-time or permanent part-time Federal officers or employees, shall be appointed as experts and consultants under the authority of 5 U.S.C. 3109, and serve as special government employees.

Members may be appointed for terms ranging from one to four years. Such appointments will normally be staggered among the Board membership to ensure an orderly turnover in the Board's overall composition on a periodic basis. With the exception of travel and per diem for official travel, they shall normally serve without compensation, unless the Secretary of Defense authorizes compensation for a particular member(s).

The Secretary of Defense, based upon the recommendation of the Under Secretary of Defense for Acquisition, Technology and Logistics, shall appoint the Board's Chairperson. The Under Secretary of Defense for Acquisition, Technology and Logistics shall appoint the Vice Chairperson. The Board Chairman and Vice Chairman shall serve two-year terms and, with the Secretary of Defense's approval, may serve additional terms.

The Secretary of Defense may invite other distinguished U.S. Government officers to serve as non-voting observers, and the Under Secretary of Defense for Acquisition, Technology and Logistics may invite chairpersons from other DoD-supported federal advisory committees to serve as non-voting observers.

The Under Secretary of Defense for Acquisition, Technology, and Logistics may appoint experts and consultants, with special expertise, to assist the Board on an ad hoc basis. These experts and consultants, if not full-time or part time government employees, shall be appointed under the authority of 5 U.S.C. 3109, shall serve as special government employees, shall be appointed on an intermittent basis to work specific Board-related efforts, and shall have no voting rights.

Non-voting observers and those non-voting experts and consultants appointed by the Under Secretary of Defense for Acquisition, Technology, and Logistics shall not count toward the Board's total membership.

With DoD approval, the Board is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Board, and shall report all their recommendations and advice to the Board for full deliberation and discussion. Subcommittees or workgroups have no authority to make decisions on behalf of the chartered Board; nor can they report directly to the Department of Defense or any Federal officers or employees who are not Board members.

Subcommittee members, who are not Board members, shall be appointed in the same manner as the Board members.

The Board shall meet at the call of the Board's Designated Federal Officer, in consultation with the Chairperson. The estimated number of Board meetings is four per year.

The Designated Federal Officer, pursuant to DoD policy, shall be a full-time or permanent part-time DoD employee, and shall be appointed in accordance with established DoD policies and procedures. In addition, the Designated Federal Officer is required to be in attendance at all meetings; however, in the absence of the Designated Federal Officer, the Alternate Designated Federal Officer shall attend the meeting.

Pursuant to 41 CFR 102-3.105(j) and 102-3.140, the public or interested organizations may submit written statements to the Defense Science Board's membership about the Board's mission and functions. Written statements may be submitted at any time or in response to the stated agenda of planned meeting of Defense Science Board.

All written statements shall be submitted to the Designated Federal Officer for the Defense Science Board, and this individual will ensure that the written statements are provided to the membership for their consideration. Contact information for the Defense Science Board Designated Federal Officer can be obtained from the GSA's FACA Database— https://www.fido.gov/facadatabase/public.asp.

The Designated Federal Officer, pursuant to 41 CFR 102-3.150, will announce planned meetings of the Defense Science Board. The Designated Federal Officer, at that time, may provide additional guidance on the submission of written statements that are in response to the stated agenda for the planned meeting in question.

Dated: April 27, 2010.
Mitchell S. Bryman,
Alternate OSD Federal Register Liaison Officer, Department of Defense.

[FR Doc. 2010-10126 Filed 4-29-10; 8:45 am]

BILLING CODE 5001-06-P